DEPARTMENT OF COMMERCE

International Trade Administration

DEPARTMENT OF THE INTERIOR

[Docket No. 990813222-0035-03]

RIN 0625-AA55

Office of Insular Affairs; Allocation of Duty-Exemptions for Calendar Year 2008 Among Watch Producers Located in the United States Virgin Islands

AGENCY: Import Administration, International Trade Administration, Department of Commerce; Office of Insular Affairs, Department of the Interior.

ACTION: Notice.

SUMMARY: This action allocates calendar year 2008 duty exemptions for watch producers located in the Virgin Islands pursuant to Public Law 97-446, as amended by Public Law 103-465, Public Law 106-36 and Public Law 108-429 (``the Act'').

FOR FURTHER INFORMATION CONTACT: Faye Robinson, (202) 482-3526.

SUPPLEMENTARY INFORMATION: Pursuant to the Act, the Departments of the Interior and Commerce (the Departments) share responsibility for the allocation of duty exemptions among watch assembly firms in the United States insular possessions and the Northern Mariana Islands. In accordance with section 303.3(a) of the regulations (15 CFR 303.3(a)), the total quantity of duty-free insular watches and watch movements for calendar year 2008 is 1,866,000 units for the Virgin Islands (65 FR 8048, February 17, 2000).

The criteria for the calculation of calendar year 2008 duty-exemption allocations among insular watch producers are set forth in section 303.14 of the regulations (15 CFR 303.14).

The Departments have verified and adjusted the data submitted on application form ITA-334P by U.S. Virgin Islands producers and inspected their current operations in accordance with Section 303.5 of the regulations (15 CFR 303.5).

In calendar year 2007 the Virgin Islands watch assembly firms shipped 243,070 watches and watch movements into the customs territory of the United States under the Act. The dollar amount of creditable corporate income taxes paid by Virgin Islands producers during calendar year 2007 plus the creditable wages paid by the industry during calendar year 2007 to residents of the territory was $2,043,408.

There are no producers in Guam, American Samoa or the Northern Mariana Islands.

The calendar year 2008 Virgin Islands annual allocations, based on the data verified by the Departments, are as follows:

Name of firm | Annual allocation
Belair Quartz, Inc | 500,000
Hampden Watch Co., Inc | 200,000
Tropex, Inc | 200,000

The balance of the units allocated to the Virgin Islands is available for new entrants into the program or producers who request a supplement to their allocation.

Dated: February 28, 2008.
Faye Robinson,
Director, Statutory Import Programs Staff, Department of Commerce.
Tom Bussanich,
Acting Director, Office of Insular Affairs, Department of the Interior.

[FR Doc. 08-939 Filed 3-4-08; 8:45 am]

BILLING CODES 3510-DC-M; 4310-93-M